EXPORT-IMPORT BANK OF THE UNITED STATES

Notice of Open Special Meeting of the Advisory Committee of the Export-Import Bank of the United States (Ex-Im Bank).

SUMMARY: The Advisory Committee was established by Public Law 98-181, November 30, 1983, to advise the Export-Import Bank on its programs and to provide comments for inclusion in the reports of the Export-Import Bank of the United States to Congress.

Time and Place: Monday, March 24, 2002, at 9:30 a.m. to 12:30 p.m. The meeting will be held at Ex-Im Bank in Room 1143, 811 Vermont Avenue, NW., Washington, DC 20571.

Agenda: Agenda items include an introduction of Advisory Committee responsibilities, a legislative update, introduction of topics for the year, and discussion of the Advisory Committee's recommendations to Ex-Im Bank.

Public Participation: The meeting will be open to public participation, and the last 10 minutes will be set aside for oral questions or comments. Members of the public may also file written statement(s) before or after the meeting. If any person wishes auxiliary aids (such as a sign language interpreter) or other special accommodations, please contact, prior to March 17, 2003, Michele Kuester, Room 1243, 811 Vermont Avenue, NW., Washington, DC 20571, Voice: (202) 565-3766 or TDD (202) 565-3377.

FOR FURTHER INFORMATION CONTACT: Michele Kuester, Room 1243, 811 Vermont Ave., NW., Washington, DC 20571, (202) 565-3766.

Peter Saba,
General Counsel.

[FR Doc. 03-6054 Filed 3-12-03; 8:45 am]

BILLING CODE 6690-01-M